DEPARTMENT OF TRANSPORTATION

Federal Railroad Administration

Environmental Impact Statement for the California High Speed Rail System San Francisco to San Jose Section, CA

AGENCY: Federal Railroad Administration (FRA), Department of Transportation (DOT).

ACTION: Extension of comment period for the Notice of Intent (NOI) to prepare an Environmental Impact Statement (EIS).

SUMMARY: On May 9, 2016, FRA published a NOI announcing its intent to jointly prepare an Environmental Impact Report (EIR) and Environmental Impact Statement (EIS) with the California High-Speed Rail Authority (Authority) for the San Francisco to San Jose Section of the California High-Speed Rail (HSR) System, Blended System Project (Blended System Project or Project) and requesting public comments. Through this notice, FRA is extending the comment period and inviting the public and all interested parties to provide comments on the scope of the EIR/EIS, including the proposed purpose and need, the alternatives to consider, potential environmental impacts of concern, and methodologies for analysis of impacts.

DATES: FRA must receive written comments by July 20, 2016. FRA may consider comments received after that date if it is practicable.

ADDRESSES: You can send written comments on the scope to Mr. Mark McLoughlin, Director of Environmental Services, Attention: San Francisco to San Jose Section EIR/EIS, California High-Speed Rail Authority, 770 L Street, Suite 1160, Sacramento, CA 95814, or via email with subject line “San Francisco to San Jose Section EIR/EIS” to: san.francisco_san.jose@hsr.ca.gov.

FOR FURTHER INFORMATION CONTACT: Ms. Stephanie Perez, Environmental Protection Specialist, Office of Program Delivery, Federal Railroad Administration, 1200 New Jersey Avenue SE. (Mail Stop 20), Washington, DC 20590; Telephone: (202) 493-0388, email: stephanie.perez@dot.gov, or Mr. Guy Preston, Regional Delivery Manager, California High Speed Rail Authority, 100 Paseo de San Antonio, San Jose, CA 95113, Telephone: (408) 277-1091 or san.francisco_san.jose@hsr.ca.gov.

SUPPLEMENTARY INFORMATION: The FRA and Authority are preparing an EIR/EIS for the San Francisco to San Jose Project Section to comply with the California Environmental Quality Act (CEQA) and the National Environmental Policy Act (NEPA). The Authority has decided to extend the comment period to July 20, 2016 to comply with CEQA. Following discussions with the Authority, FRA has decided to extend the NEPA scoping comment period for consistency with the Authority's extension and to give the public additional time to provide comments. FRA encourages broad participation in the EIS process during scoping and review of the resulting environmental documents. FRA invites Native American Tribes, interested agencies, and the public at large to participate in the scoping process to ensure the EIR/EIS addresses the full range of issues related to the proposed action and reasonable alternatives, and that all significant issues are identified. FRA requests that any public agency having jurisdiction over an aspect of the Project identify the applicable permit and environmental review requirements of the agency and the scope and content of the environmental information germane to the agency's jurisdiction over the Project. Public agencies are requested to advise FRA if they anticipate taking a major action in connection with the proposed project and if they wish to participate as a cooperating agency for the San Francisco to San Jose Section EIR/EIS.

FRA and the California High Speed Rail Authority held public scoping meetings in May 2016. Additional information about the project can be found at http://www.hsr.ca.gov/Programs/Statewide_Rail_Modernization/Project_Sections/sanfran_sanjose.html.

Issued in Washington, DC on June 24, 2016.
Jamie Rennert,
Director, Office of Program Delivery.

[FR Doc. 2016-15409 Filed 6-28-16; 8:45 am]

BILLING CODE 4910-06-P